DEPARTMENT OF HEALTH AND HUMAN SERVICES

National Institutes of Health

National Institute of Diabetes and Digestive and Kidney Diseases; Amended Notice of Meeting

Notice is hereby given of a change in the meeting of the National Institute of Diabetes and Digestive and Kidney Diseases Special Emphasis Panel, September 25, 2015, 09:00 a.m. to September 25, 2015, 12:00 p.m., National Institutes of Health, Two Democracy Plaza, 6707 Democracy Boulevard, Bethesda, MD, 20892 which was published in the Federal Register on September 08, 2015, Vol. 80, No. 173.

This meeting is being amended to reflect a date and time change. The meeting will be held on December 15, 2015, from 04:00 p.m. until 06:00 p.m. The meeting is closed to the public.

Dated: October 1, 2015.
David Clary,
Program Analyst, Office of Federal Advisory Committee Policy.

[FR Doc. 2015-25440 Filed 10-6-15; 8:45 am]

BILLING CODE 4140-01-P